DEPARTMENT OF THE INTERIOR

Fish and Wildlife Service

[FWS-R5-ES-2008-N0075; 50120-1113-0000-F5]

Endangered and Threatened Wildlife and Plants; Permits

AGENCY: Fish and Wildlife Service, Interior.

ACTION: Notice of receipt of permit renewal application; request for comment.

SUMMARY: We, the Fish and Wildlife Service (Service), invite the public to comment on the following application to renew an existing permit to conduct certain activities involving endangered species.

DATES: We must receive comments on this permit application on or before May 30, 2008.

ADDRESSES: Acting Regional Endangered Species Permits Coordinator, U.S. Fish and Wildlife Service, 300 Westgate Center Drive, Hadley, MA 01035 (telephone: 617-876-6173; facsimile: 413-253-8482).

FOR FURTHER INFORMATION CONTACT: Mary Parkin, at the above address.

SUPPLEMENTARY INFORMATION: The following applicant has requested renewal of an existing scientific research recovery permit to conduct specific activities with all listed species in the States of Connecticut, Delaware, Maine, Maryland, Massachusetts, New Hampshire, New Jersey, New York, Pennsylvania, Rhode Island, Vermont, Virginia, and West Virginia, and in the District of Columbia, under section 10(a)(1)(A) of the Endangered Species Act (16 U.S.C. 1531 et seq.). We solicit review and comment from local, State, and Federal agencies and the public on the following permit request:

Permit No. TE-697823

Applicant: Assistant Regional Director, Ecological Services, U.S. Fish and Wildlife Service, Hadley, Massachusetts.

The applicant requests renewal of a permit for take of all listed species in the States specified above for scientific purposes, or the enhancement of propagation or survival permits as prescribed by Service recovery documents.

The original permit became effective on July 15, 1994, and has been renewed twice since then, on May 6, 1998, and May 6, 2003. Opportunity for public review of the renewal applications was provided in 63 FR 14471 (March 25, 1998) and 68 FR 12098 (March 13, 2003), respectively.

Public Review of Comments

Please refer to the permit number when submitting comments.

We solicit public review and comment on this recovery permit application. Before including your address, phone number, electronic address, or other personal identifying information in your comment, you should be aware that your entire comment—including your personal identifying information—may be made publicly available at any time. While you can ask us in your comment to withhold your personal identifying information from public review, we cannot guarantee that we will be able to do so.

Comments and materials received will be available for public inspection, by appointment, during normal business hours at the above address.

Authority: The authority for this section is the Endangered Species Act of 1973, as amended (16 U.S.C. 1531 et seq.).

Dated: April 8, 2008.
Wendi Weber,
Acting Regional Director, Region 5, U.S. Fish and Wildlife Service.

[FR Doc. E8-9443 Filed 4-29-08; 8:45 am]

BILLING CODE 4310-55-P